FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than October 4, 2001.

A. Federal Reserve Bank of Cleveland (Paul Kaboth, Banking Supervision) 1455 East Sixth Street, Cleveland, Ohio 44101-2566:

1. William R. Baierl, Allison Park, Pennsylvania; Baierl Chevrolet, Inc., Wexford, Pennsylvania; Carole A. Baierl, and the William R. Baierl Trust (Trustees: William R. Baierl, Sandra Bussee and Lee W. Baierl), all of Allison Park, Pennsylvania; to acquire outstanding voting shares of NSD Bancorp, Inc., Pittsburgh, Pennsylvania, and thereby indirectly acquire voting shares of Northside Bank, Pittsburgh, Pennsylvania.

Board of Governors of the Federal Reserve System, September 14, 2001.
Robert deV. Frierson,
Deputy Secretary of the Board.

[FR Doc. 01-23355 Filed 9-19-01; 8:45 am]

BILLING CODE 6210-01-S